DEPARTMENT OF COMMERCE

National Oceanic and Atmospheric Administration

[I.D. 040902I]

Marine Mammals; File No. 954-1517

AGENCY: National Marine Fisheries Service (NMFS), National Oceanic and Atmospheric Administration (NOAA), Commerce.

ACTION: Issuance of permit amendment.

SUMMARY: Notice is hereby given that Michael Kundu, Project Sea Wolf, 5516 64th Place, NE, Marysville, Washington has been issued a minor amendment to commercial/educational photography Permit No.954-1517-01.

ADDRESSES: The amendment and related documents are available for review upon written request or by appointment in the following office(s):

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426.

FOR FURTHER INFORMATION CONTACT: Lynne Barre or Trevor Spradlin, (301) 713-2289.

SUPPLEMENTARY INFORMATION: The subject amendment to Permit No. 954-1517-01, originally issued on December 30, 1999 (65 FR 1853) has been granted under the authority of the Marine Mammal Protection Act of 1972, as amended (16 U.S.C. 1361 et seq.) and the Regulations Governing the Taking and Importing of Marine Mammals (50 CFR part 216).

The permit holder requested authorization to extend Permit No. 954-1517-01 for an additional 12 months. The new expiration date for the permit is December 31, 2002 and the permit number has been changed to No. 954-1517-02 to reflect that the permit has been amended.

Dated: April 10, 2002.
Ann D. Terbush,
Chief, Permits, Conservation and Education Division, Office of Protected Resources, National Marine Fisheries Service.

[FR Doc. 02-9351 Filed 4-16-02; 8:45 am]

BILLING CODE 3510-22-S